INTERNATIONAL TRADE COMMISSION

[USITC SE-14-009]

Sunshine Act Meetings

AGENCY HOLDING THE MEETING: United States International Trade Commission.

TIME AND DATE: April 4, 2014 at 11 a.m.

PLACE: Room 101, 500 E Street SW., Washington, DC 20436, Telephone: (202) 205-2000

STATUS: Open to the public

MATTERS TO BE CONSIDERED:

1. Agendas for future meetings: none

2. Minutes

3. Ratification List

4. Vote in Inv. No. 731-TA-752 (Third Review)(Crawfish Tail Meat from China). The Commission is currently scheduled to complete and file its determination and views of the Commission on April 28, 2014.

5. Outstanding action jackets: none

In accordance with Commission policy, subject matter listed above, not disposed of at the scheduled meeting, may be carried over to the agenda of the following meeting.

Issued: March 25, 2014.
By order of the Commission.
William R. Bishop,
Supervisory Hearings and Information Officer.

[FR Doc. 2014-07048 Filed 3-26-14; 11:15 am]

BILLING CODE 7020-02-P